FEDERAL ELECTION COMMISSION.

Sunshine Act Meeting

AGENCY: Federal Election Commission.

DATE & TIME: Thursday, March 1, 2001, at 10 A.M.

PLACE: 999 E Street, NW., Washington, DC.

STATUS: This meeting will be open to the public.

ITEMS TO BE DISCUSSED: Correction and Approval of Minutes.

Advance Notice of Proposed Rulemaking on the Definition of “Political Committee.”

Administrative Matters.

PERSON TO CONTACT FOR INFORMATION: Mr. Ron Harris, Press Officer, Telephone: (202) 694-1220.

Mary W. Dove,
Acting Secretary of the Commission.

[FR Doc. 01-4670 Filed 2-21-01; 2:27 pm]

BILLING CODE 6715-01-M